DEPARTMENT OF AGRICULTURE

Forest Service

Amended Land Management Plans for the Angeles, Cleveland, Los Padres, and San Bernardino National Forests, California

AGENCY: Forest Service, USDA.

ACTION: Notice of intent to prepare a supplemental environmental impact statement.

SUMMARY: The Department of Agriculture, Forest Service will prepare a Supplemental Environmental Impact Statement (EIS) for a proposed amendment of the Land Management Plans for the Angeles, Cleveland, Los Padres, and San Bernardino National Forests (hereinafter referred to as Land Management Plans). This notice describes the specific portions of the current Land Management Plans to be amended, estimates dates for filing the supplemental environmental impact statement, information concerning public participation, and the names and contact information of the agency officials who can provide additional information. The Forest Service proposes to amend the Land Management Plans to change Land Use Zone allocations within select Inventoried Roadless Areas (IRAs) in the four southern California National Forests. The amendment also proposes to change the Land Management Plan monitoring protocols for the four forests. This joint planning process will maintain the consistent management direction and format across the four Forests. One Supplemental Environmental Impact Statement (EIS) will be prepared with a Record of Decision (ROD) for each Land Management Plan.

DATES: Comments concerning the scope of the analysis must be received by June 11, 2012. The draft supplemental environmental impact statement is expected November 2012. There will be a 90 day comment period on the draft supplemental environmental impact statement. The final supplemental environmental impact statement is expected June 2013.

ADDRESSES: Send written comments to Cleveland National Forest, 10845 Rancho Bernardo Road, Suite 200, San Diego, CA 92127-2107, ATTN: LMP Amendment. Comments may also be sent via email to socal_nf_lmp_amendment@fs.fed.us, or filed through the project web page at http://www.fs.fed.us/nepa/fs-usda-pop.php?project=35130.

FOR FURTHER INFORMATION CONTACT: Bob Hawkins, Project Manager at socal_nf_lmp_amendment@fs.fed.us, or visit the project Web site at http://www.fs.fed.us/nepa/fs-usda-pop.php?project=35130.

SUPPLEMENTARY INFORMATION: The Southern California National Forests (the Angeles, Cleveland, Los Padres, and San Bernardino National Forests, collectively, “four forests”) propose to amend the Land Management Plans adopted in 2006. The proposed amendment revises land use zone allocations for select Inventoried Roadless Areas (IRAs) within the four forests and amends Land Management Plan monitoring protocols. This proposed Land Management Plan amendment is a result of the Settlement Agreement approved January 3, 2011 for California Resources Agency, et al v. United States Department of Agriculture, and Center for Biological Diversity, et al v. United States Department of Agriculture. The IRAs included in the analysis are: Antimony, Barker Valley, Black Mountain, Cactus Springs B, Caliente, Cedar Creek, Coldwater, Cucamonga B, Cucamonga C, Cuyama, Diablo, Dry Lakes, Eagle Peak, Fish Canyon, Fox Mountain, Garcia Mountain, Juncal, Ladd, Machesna Mountain, Malduce Buckhorn, No Name, Pyramid Peak A, Quatal, Raywood Flat B, Red Mountain, Salt Creek, Sawmill—Badlands, Sespe—Frazier, Sill Hill, Spoor Canyon, Tequepis, Trabuco, Tule, Upper San Diego River, West Fork, Westfork, White Ledge.

Purpose and Need for Action

The purpose of the proposed action is to amend Land Management Plan land use zone allocations for select IRAs and to amend Land Management Plan monitoring protocols. This action is needed to respond to the terms of the Settlement Agreement between the Forest Service, State of California, and other settlement parties.

Land Management Plans are required by the National Forest Management Act (NFMA). They are an integrated document that describes the goals, objectives, and management direction for each component of the National Forest System. The original Land Management Plans for the four southern California national forests were adopted between 1986 and 1989, and revised in 2006 consistent with NFMA requirements. This proposed amendment to the 2006 Land Management Plans is limited in scope and designed to address the terms of the settlement agreement.

Proposed Action

The action proposed by the Forest Service to meet the purpose and need is to modify the existing land use zones in the identified IRAs to include more Back Country Non-Motorized (BCNM) and Recommended Wilderness (RW) areas. An alternate monitoring framework is also proposed.

The proposed action would change the LUZ allocation to BCNM on approximately 300,000 acres, and change the LUZ allocation to RW on approximately 80,000 acres. The majority of the additional BCNM allocations are located in IRAs on the Los Padres National Forest, and San Bernardino National Forest. Additions to the RW allocations are within IRAs on the Angeles and Cleveland National Forests.

On the Angeles National Forest, the Fish Canyon and Salt Creek IRAs were combined to create the proposed 40,000 acre Fish Canyon RW area. On the Cleveland National Forest, the proposed 23,000 acre Eagle Peak RW area includes portions of the Eagle Peak, Sill Hill, and No Name IRAs, along with portions of the Cedar Creek and Upper San Diego River undeveloped areas. The 11,000 acre Barker Valley and 5,000 acre Caliente RW areas are also proposed on the Cleveland National Forest.

The proposed action monitoring and evaluation requirements are based on the current monitoring framework (Part 3, Appendix C of the Land Management Plans). Revisions include updates to the monitoring requirements for forest health, riparian condition, and biological resource condition. Monitoring indicators were also clarified to reflect current inventory methodology in several areas, and an indicator was added to track unclassified (unauthorized) roads and trails. The revision also include more details on how monitoring will be implemented, and how projects will be selected for monitoring.

Lead and Cooperating Agencies

The Forest Service is the lead federal agency for the Land Management Plan Amendment. The U.S. Fish and Wildlife Service, National Marine Fisheries Service, Environmental Protection Agency, State of California Natural Resources Agency (including the Departments of Fish and Game, Parks and Recreation, and Forestry and Fire Protection), Ventura County, and Orange County Fire Authority have agreed to participate as cooperating agencies. Other federal, state, and local agencies as well as tribes are invited to join as cooperators.

Responsible Official

Cleveland National Forest Supervisor Will Metz is the lead Forest Supervisor for the joint planning effort between the Angeles, Cleveland, Los Padres, and San Bernardino National Forests and is the Responsible Official for purposes of this notice. If the proposed amendment results in a significant change to the LMPs (as described by Forest Service policy), Regional Forester Randy Moore will be the Responsible Official for the decision. If the proposed amendment does not result in a significant change to the LMP, each individual Forest Supervisor may act as the Responsible Official for the decision. Refer to Forest Service Manual section 1926 for more detail.

Nature and Scope of Decision To Be Made

Given the purpose and need, the Responsible Official reviews the proposed action, the other alternatives, and the environmental consequences in order to determine whether the LMPs will be amended as proposed, modified by an alternative, or not at all. The decision framework is limited in scope to the proposed changes to the land use zone allocations for select IRAs and to the monitoring protocols.

Scoping Process

This notice of intent initiates the scoping process, which guides the development of the supplemental environmental impact statement. The four forests will host a series of open house workshops during the scoping period. Forest Service staff will be available during the open house workshops to answer questions about the proposed action.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however anonymous comments will not provide the Agency with the information needed to provide the respondent with subsequent environmental documents.

Planning Process

The LMP amendment will be developed under the transition provisions of the new Forest Service planning rule found at 36 CFR 219.17, which provides that plan amendments may be initiated under the provisions of the prior planning regulations (see 74 FR 67062, December 18, 2009 for more information on the prior planning rule). Under those transition provisions, this plan amendment will be conducted under the 1982 planning rule, however, the pre-decisional administrative review process described under 36 CFR 219 subpart B will apply.

Meetings

The Forest Service will be hosting multiple open house workshops during the scoping period. The content and format of each meeting will be the same. Forest Service staff will be available to answer questions about the proposed action. Maps of the proposed changes will be available for viewing. The meeting times and locations are:

May 29, 2012, 4 p.m. to 7 p.m., Avenue Adult Center, 550 N. Ventura Avenue, Ventura, CA 93001 (Hosted by Los Padres National Forest).

May 30, 2012, 4 p.m. to 7 p.m., Angeles National Forest Headquarters, 701 North Santa Anita Avenue, Arcadia, CA 91006.

May 31, 2012, 4 p.m. to 7 p.m., Santa Maria Red Cross, 3030 Skyway Drive, Santa Maria, CA 93455 (Hosted by Los Padres National Forest).

May 31, 2012, 4 p.m. to 7 p.m., Santa Clara Mojave Rivers Ranger District Office, 33708 Crown Valley Road, Acton, CA 93510.

May 31, 2012, 4 p.m. to 7 p.m., San Bernardino National Forest Headquarters, 602 S. Tippecanoe Ave., San Bernardino, CA 92408.

May 31, 2012, 4 p.m. to 7 p.m., Palomar Ranger District Office, 1634 Black Canyon Road, Ramona, CA 92065.

June 1, 2012, 1 p.m. to 4 p.m., Frazier Park Library, 3732 Park Drive, Frazier Park, CA 93225 (Hosted by Los Padres National Forest).

June 5, 2012, 4 p.m. to 7 p.m., Descanso Ranger District office, 3348 Alpine Blvd., Alpine, CA 91901.

June 5, 2012, 4 p.m. to 7 p.m., Trabuco Ranger District office, 1147 E. 6th Street, Corona, CA 92879.

Dated: April 17, 2012.
William Metz,
Forest Supervisor, Cleveland National Forest.

[FR Doc. 2012-9909 Filed 4-26-12; 8:45 am]

BILLING CODE 3410-11-P